DEPARTMENT OF JUSTICE

Office of Community Oriented Policing Services; Agency Information Collection Activities: Proposed Collection; Comments Requested

ACTION: 60-Day notice of information collection under review: Community Policing Development Application Packet.

The Department of Justice (DOJ), Office of Community Oriented Policing Services (COPS) has submitted the following information collection request to the Office of Management and Budget (OMB) for review and approval in accordance with the Paperwork Reduction Act of 1995. The proposed information collection is published to obtain comments from the public and affected agencies. Comments are encouraged and will be accepted for sixty days until December 19, 2003. This process is conducted in accordance with 5 CFR 1320.10.

If you have comments especially on the estimated public burden or associated response time, suggestions, or need a copy of the proposed information collection instrument with instructions or additional information, please contact Mary Hyland, (202) 616-9418, Office of Community Oriented Policing Services, 1100 Vermont Avenue, NW., Washington, DC 20530.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New Collection.

(2) Title of the Form/Collection: Community Policing Development Application Packet.

(3) Agency form number, if any, and the applicable component of the Department of Justice sponsoring the collection: Office of Community Oriented Policing Services Form Number: 1103-0085.

(4) Affected public who will be asked or required to respond, as well as a brief abstract: Primary: State, local, and Tribal law enforcement agencies, institutions of higher education, and/or non-profit organizations. Other: None Abstract: The information collected will be used by the COPS Office to determine grantee's eligibility for funding under Community Policing Development initiatives, which address current law enforcement/community needs and emerging law enforcement issues.

(5) An estimate of the total number of respondents and the amount of time estimated for an average respondent to respond: There will be an estimated 200 responses. The estimated amount of time required for the average respondent to respond is: 8 hours.

(6) An estimate of the total public burden (in hours) associated with the collection: 1,800 hours annually.

If additional information is required contact: Brenda Dyer, Deputy Clearance Officer, Policy and Planning Staff, Justice Management Division, United States Department of Justice, 601 D Street, NW., Patrick Henry Building, Suite 1600, NW., Washington, DC 20530.

Dated: October 14, 2003.
Brenda Dyer,
Deputy Clearance Officer, Department of Justice.

[FR Doc. 03-26369 Filed 10-17-03; 8:45 am]

BILLING CODE 4410-AT-M